DEPARTMENT OF DEFENSE

GENERAL SERVICES ADMINISTRATION

NATIONAL AERONAUTICS AND SPACE ADMINISTRATION

48 CFR Part 52

[FAC 2005-91; FAR Case 2014-018; Corrections; Docket 2014-0018; Sequence No. 1]

Federal Acquisition Regulation; Contractors Performing Private Security Functions; Corrections

AGENCY: Department of Defense (DoD), General Services Administration (GSA), and National Aeronautics and Space Administration (NASA).

ACTION: Final rule; correction.

SUMMARY: DoD, GSA, and NASA are issuing a correction to FAC 2005-91; FAR Case 2014-018; Contractors Performing Private Security Functions; (Item IX), which was published in the Federal Register at 81 FR 67776, on September 30, 2016. This correction corrects paragraph designations.

DATES: Effective: October 31, 2016.

FOR FURTHER INFORMATION CONTACT: Mr. Michael O. Jackson, Procurement Analyst, at 202-208-4949, for clarification of content. For information pertaining to status or publication schedules, contact the Regulatory Secretariat at 202-501-4755. Please cite FAC 2005-91, FAR Case 2014-018; Corrections.

SUPPLEMENTARY INFORMATION:

Corrections

In rule FR Doc. 2016-23203, published in the Federal Register at 81 FR 67776, on September 30, 2016, make the following corrections:

52.212-5 [Corrected]

1. On page 67777, in the center column, correct amendatory instruction number 6.b. by removing from paragraph 3. “paragraph (e)(1)(ii)(T)” and adding “paragraph (e)(1)(ii)(O)” in its place; and

2. On page 67777, in the third column, in Alternate II, redesignate paragraph “(e)(1)(ii)(T)” as paragraph “(e)(1)(ii)(O)”.

Authority: 40 U.S.C. 121(c); 10 U.S.C. chapter 137; and 51 U.S.C. 20113.

Dated: October 17, 2016.
William Clark,
Director, Office of Government-wide Acquisition Policy, Office of Acquisition Policy, Office of Government-wide Policy.

[FR Doc. 2016-25548 Filed 10-20-16; 8:45 am]

BILLING CODE 6820-EP-P